DEPARTMENT OF ENERGY

Federal Energy Regulatory Commission

Combined Notice of Filings #1

Take notice that the Commission received the following electric rate filings:

Docket Numbers: ER23-1784-002.

Applicants: PJM Interconnection, L.L.C.

Description: Compliance filing: Order No. 676-J Compliance Revisions to Tariff, Section 4.2 to be effective 12/31/9998.

Filed Date: 8/21/24.

Accession Number: 20240821-5109.

Comment Date: 5 p.m. ET 9/11/24.

Docket Numbers: ER24-2820-000.

Applicants: New York Independent System Operator, Inc.

Description: 205(d) Rate Filing: NYISO 205 Filing: Development Agreement—NYISO, LIPA SA2855 to be effective 7/23/2024.

Filed Date: 8/21/24.

Accession Number: 20240821-5023.

Comment Date: 5 p.m. ET 9/11/24.

Docket Numbers: ER24-2821-000.

Applicants: PJM Interconnection, L.L.C.

Description: 205(d) Rate Filing: Original NSA, SA No. 7329; Queue Nos. V1-024 and V1-025 to be effective 10/21/2024.

Filed Date: 8/21/24.

Accession Number: 20240821-5026.

Comment Date: 5 p.m. ET 9/11/24.

Docket Numbers: ER24-2822-000.

Applicants: PJM Interconnection, L.L.C.

Description: 205(d) Rate Filing: Original NSA, SA No. 7330; Queue Nos. V4-046 and V4-047 to be effective 10/21/2024.

Filed Date: 8/21/24.

Accession Number: 20240821-5029.

Comment Date: 5 p.m. ET 9/11/24.

Docket Numbers: ER24-2823-000.

Applicants: NorthWestern Corporation.

Description: Tariff Amendment: Cancellation of RS 328—NorthernGrid Funding Agrmt to be effective 2/1/2024.

Filed Date: 8/21/24.

Accession Number: 20240821-5043.

Comment Date: 5 p.m. ET 9/11/24.

Docket Numbers: ER24-2824-000.

Applicants: RE Papago LLC.

Description: Baseline eTariff Filing: Application for Market Based Rate Authority to be effective 10/22/2024.

Filed Date: 8/21/24.

Accession Number: 20240821-5115.

Comment Date: 5 p.m. ET 9/11/24.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: August 21, 2024.
Debbie-Anne A. Reese,
Acting Secretary.

[FR Doc. 2024-19205 Filed 8-26-24; 8:45 am]

BILLING CODE 6717-01-P